DEPARTMENT OF AGRICULTURE

Office of the Secretary

Meeting Notice of the National Agricultural Research, Extension, Education, and Economics Advisory Board

AGENCY: Research, Education, and Economics, USDA.

ACTION: Notice of public meeting.

SUMMARY: In accordance with the Federal Advisory Committee Act, 5 U.S.C. App 2, Section 1408 of the National Agricultural Research, Extension, and Teaching Policy Act of 1977 (7 U.S.C. 3123), and the Agricultural Act of 2014, the United States Department of Agriculture (USDA) announces a virtual meeting of the National Agricultural Research, Extension, Education, and Economics Advisory Board.

DATES: The National Agricultural Research Extension, Education, and Economics Advisory Board will meet virtually by telephone conference on September 28, 2018, from 11:30 a.m.-1:00 p.m. Eastern Daylight Time (EDT). The public may file written comments before or up to October 12, 2018.

ADDRESSES: The meeting will take place virtually via teleconference.

Web Preregistration: Participants wishing to participate may preregister by calling 202-720-6012 or email at nareee@ars.usda.gov. Upon registration you will receive a call-in number and access code.

Written comments may be sent to: The National Agricultural Research, Extension, Education, and Economics Advisory Board Office, Room 332A, Whitten Building, United States Department of Agriculture, 1400 Independence Avenue SW, Washington, DC 20250-0321.

FOR FURTHER INFORMATION CONTACT: Michele Esch, Executive Director/Designated Federal Official, or Shirley Morgan-Jordan, Program Support Coordinator, National Agricultural Research, Extension, Education, and Economics Advisory Board; telephone: (202) 720-3684; fax: (202)720-6199; or email: nareee@ars.usda.gov.

SUPPLEMENTARY INFORMATION:

Purpose of the meeting: To provide advice and recommendations on the top priorities and policies for food and agricultural research, education, extension, and economics. The focus of this meeting will be on the deliberation of the following report and recommendations: The relevance and adequacy of the climate and energy needs programs of the USDA Research, Education, and Extension mission area; a report from the Science Advisory Council (a subcommittee of the NAREEE Advisory Board) on gene editing; and a report from the National Genetic Resources Advisory Council (a subcommittee of the NAREEE Advisory Board) on aquatic and animal genetic resources. A detailed agenda may be received from the contact person identified in this notice or at https://nareeeab.ree.usda.gov/meetings/general-meetings.

Tentative Agenda: On Tuesday, September 28, 2018, the meeting will be held from 11:00 a.m. EDT until 1:30 p.m. EDT.

Public Participation: This meeting is open to the public via telephone and any interested individuals wishing to attend. Opportunity for public comment will be offered. To attend the meeting via telephone and/or make oral statements regarding any items on the agenda, you must contact Michele Esch or Shirley Morgan-Jordan at 202-720-3684; email: nareee@ars.usda.gov at least 5 business days prior to the meeting. Members of the public will be heard in the order in which they sign up at the beginning of the meeting. The Chair will conduct the meeting to facilitate the orderly conduct of business. Written comments by attendees or other interested stakeholders will be welcomed for the public record before and up to two weeks following the Board meeting (or by close of business Friday, October 12, 2018). All written statements must be sent to Michele Esch, Designated Federal Officer and Executive Director, National Agricultural Research, Extension, Education, and Economics Advisory Board, U.S. Department of Agriculture, Room 332A, Jamie L. Whitten Building, Mail Stop 0321, 1400 Independence Avenue SW, Washington, DC 20250-0321; or email: nareee@ars.usda.gov. All statements will become a part of the official record of the National Agricultural Research, Extension, Education, and Economics Advisory Board and will be kept on file for public review in the Research, Education, and Economics Advisory Board Office.

Done on at Washington, DC, this day of September 11, 2018.
Chavonda Jacobs-Young,
Acting, Deputy Under Secretary, Research, Education, and Economics Acting Chief Scientist.

[FR Doc. 2018-20452 Filed 9-19-18; 8:45 am]

BILLING CODE 3410-03-P